NUCLEAR REGULATORY COMMISSION

[Docket Nos. 50-280 and 50-281; NRC-2021-0101]

Virginia Electric and Power Company; Surry Power Station, Units 1 and 2

AGENCY: Nuclear Regulatory Commission.

ACTION: Subsequent license renewal and record of decision; issuance.

SUMMARY: The U.S. Nuclear Regulatory Commission (NRC) has issued Subsequent Renewed Facility Operating License Nos. DPR-32 and DPR-37 to Virginia Electric and Power Company (Dominion Energy Virginia, Dominion, or the licensee), for Surry Power Station, Units 1 and 2, respectively. In addition, the NRC has prepared a record of decision (ROD) that supports the NRC's decision to issue Subsequent Renewed Facility Operating License Nos. DPR-32 and DPR-37.

DATES: The Subsequent Renewed Facility Operating License Nos. DPR-32 and DPR-37 were issued on May 4, 2021.

ADDRESSES: Please refer to Docket ID NRC-2021-0101 when contacting the NRC about the availability of information regarding this document. You may obtain publicly available information related to this document using any of the following methods:

• Federal Rulemaking Website: Go to https://www.regulations.gov and search for Docket ID NRC-2021-0101. Address questions about Docket IDs in Regulations.gov to Stacy Schumann; telephone: 301-415-0624; email: Stacy.Schumann@nrc.gov. For technical questions, contact the individual listed in the FOR FURTHER INFORMATION CONTACT section of this document.

• NRC's Agencywide Documents Access and Management System (ADAMS): You may access publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document.

• Attention: The PDR, where you may examine and order copies of public documents, is currently closed. You may submit your request to the PDR via email at pdr.resource@nrc.gov or call 1-800-397-4209 or 301-415-4737, between 8:00 a.m. and 4:00 p.m. (EST), Monday through Friday, except Federal holidays.

FOR FURTHER INFORMATION CONTACT: Angela Wu, Office of Nuclear Reactor Regulation, U.S. Nuclear Regulatory Commission, Washington, DC 20555-0001; telephone: 301-415-2995, email: Angela.Wu@nrc.gov.

SUPPLEMENTARY INFORMATION: Notice is hereby given that the NRC has issued Subsequent Renewed Facility Operating License Nos. DPR-32 and DPR-37 to Virginia Electric and Power Company (Dominion Energy Virginia, Dominion, or the licensee), for Surry Power Station, Units 1 and 2, respectively. Dominion is the operator of the facility. Subsequent Renewed Facility Operating License Nos. DPR-32 and DPR-37 authorize operation of Unit 1 and Unit 2, respectively, by Dominion at reactor core power levels not in excess of 2,587 megawatts thermal for each unit, in accordance with the provisions of the Surry Power Station, Units 1 and 2, subsequent renewed licenses and technical specifications. Notice is also given that the ROD that supports the NRC's decision to issue Subsequent Renewed Facility Operating License Nos. DPR-32 and DPR-37 is available in ADAMS Accession No. ML20091L985.

As discussed in the ROD and the final supplemental environmental impact statement (FSEIS) for Surry Power Station, Units 1 and 2, Supplement 6, Second Renewal, to NUREG-1437, “Generic Environmental Impact Statement for License Renewal of Nuclear Plants Regarding Subsequent License Renewal for Surry Power Station, Units 1 and 2, Final Report,” dated April 2020 (ADAMS Accession No. ML20071D538), the NRC staff initially considered 16 alternatives to subsequent license renewal. The NRC staff dismissed 13 alternatives because of technical, resource availability, or commercial limitations that currently exist and that are likely to continue to exist when the existing Surry renewed licenses expire, rendering these alternatives not feasible and commercially viable. This resulted in the three reasonable replacement power alternatives for in-depth evaluation: (a) a new nuclear (Small Modular Reactor) generation alternative, (b) a natural gas combined-cycle power plant, and (c) a combination of natural gas combined-cycle power plant, solar, and demand-side management. The FSEIS documents the environmental review, including the determination that the adverse environmental impacts of subsequent license renewal for Surry Power Station, Units 1 and 2, are not so great that preserving the option of subsequent license renewal for energy planning decisionmakers would be unreasonable. In addition to the NRC staff's independent environmental review, the FSEIS conclusion is based on (1) the analysis and findings in NUREG-1437, “Generic Environmental Impact Statement for License Renewal of Nuclear Power Plants,” (2) information provided in the environmental report submitted by Dominion, (3) consultation with Federal, State, local, and Tribal agencies, and (4) the NRC staff's consideration of public comments.

Surry Power Station, Units 1 and 2, are three-coolant-loop, pressurized light water reactors located on a site situated on Gravel Neck, adjacent to the James River in Surry County, Virginia. The application for the subsquent renewed licenses, “Surry Power Station Units 1 and 2 Application for Subsequent License Renewal,” dated October 15, 2018 (ADAMS Package Accession No. ML18291A842), as supplemented by letters dated through April 8, 2021 (ADAMS Package Accession No. ML21112A337), complies with the standards and requirements of the Atomic Energy Act of 1954, as amended (the Act), and the NRC's regulations. As required by the Act and NRC regulations in chapter 1 of title 10 of the Code of Federal Regulations (10 CFR), the NRC has made appropriate findings, which are set forth in the subsequent renewed licenses.

A public notice of the proposed issuance of the subsequent renewed licenses and an opportunity for a hearing was published in the Federal Register on December 10, 2018 (83 FR 63541) and corrected on December 17, 2018 (83 FR 64606). There were no petitions to intervene filed for the Surry subsequent license renewal application.

For further details with respect to this action, see: (1) Virginia Electric and Power Company's subsequent license renewal application for Surry Power Station, Units 1 and 2, dated October 15, 2018, as supplemented by letters dated through April 8, 2021; (2) the NRC's safety evaluation report, dated March 2020 (ADAMS Package Accession No. ML20052F520); (3) the NRC's final environmental impact statement (NUREG-1437, Supplement 6, Second Renewal) for Surry Power Station Units 1 and 2, dated April 2020; and (4) the NRC's ROD.

Dated: May 4, 2021.
For the Nuclear Regulatory Commission.
Anna H. Bradford,
Director, Division of New and Renewed Licenses, Office of Nuclear Reactor Regulation.

[FR Doc. 2021-09719 Filed 5-6-21; 8:45 am]

BILLING CODE 7590-01-P